DEPARTMENT OF ENERGY

Federal Energy Regulatory Commission

Combined Notice of Filings #1

Take notice that the Commission received the following electric corporate filings:

Docket Numbers: EC17-101-000.

Applicants: Beebe 1B Renewable Energy, LLC, Beebe Renewable Energy, LLC, Bluestem Wind Energy, LLC, Cassia Gulch Wind Park LLC, Cow Branch Wind Power, LLC, CR Clearing, LLC, Criterion Power Partners, LLC, Fourmile Wind Energy, LLC, Harvest Windfarm, LLC, Harvest Windfarm II, LLC, High Mesa Energy, LLC, Michigan Wind 1, LLC, Michigan Wind 2, LLC, Shooting Star Wind Project, LLC, Tuana Springs Energy, LLC, Wind Capital Holdings, LLC, John Hancock Life Insurance Company (U.S.A.).

Description: Application of the Exelon Applicants, et al. for Authorization under Section 203 of the Federal Power Act, Request for Expedited Action and Request for Confidential Treatment.

Filed Date: 4/3/17.

Accession Number: 20170403-5583.

Comments Due: 5 p.m. ET 4/24/17.

Take notice that the Commission received the following exempt wholesale generator filings:

Docket Numbers: EG17-90-000.

Applicants: AEM Wind, LLC.

Description: Self-Certification of EWG Status of AEM Wind, LLC.

Filed Date: 4/4/17.

Accession Number: 20170404-5218.

Comments Due: 5 p.m. ET 4/25/17.

Take notice that the Commission received the following electric rate filings:

Docket Numbers: ER17-1069-001.

Applicants: Mid-Atlantic Interstate Transmission, LLC, PJM Interconnection, L.L.C.

Description: Tariff Amendment: MAIT Submits Amendment of Pending Tariff Filing under ER17-1069 to be effective 12/31/9998.

Filed Date: 4/4/17.

Accession Number: 20170404-5126.

Comments Due: 5 p.m. ET 4/25/17.

Docket Numbers: ER17-1377-000.

Applicants: Northern States Power Company, a Minnesota corporation, Northern States Power Company, a Wisconsin corporation.

Description: § 205(d) Rate Filing: 2017 Interchange Agreement Annual Filing to be effective 1/1/2017.

Filed Date: 4/3/17.

Accession Number: 20170403-5502.

Comments Due: 5 p.m. ET 4/24/17.

Docket Numbers: ER17-1378-000.

Applicants: Commerce Energy, Inc.

Description: § 205(d) Rate Filing: Notice of Succession to Market-Based Rate Tariff to be effective 4/4/2017.

Filed Date: 4/3/17.

Accession Number: 20170403-5503.

Comments Due: 5 p.m. ET 4/24/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 4, 2017.
Kimberly D. Bose,
Secretary.

[FR Doc. 2017-07080 Filed 4-7-17; 8:45 am]

BILLING CODE 6717-01-P